NATIONAL FOUNDATION ON THE ARTS AND THE HUMANITIES

Institute of Museum and Library Services

74th Meeting of the President's Committee on the Arts and the Humanities

AGENCY: Institute of Museum and Library Services (IMLS), National Foundation on the Arts and the Humanities.

ACTION: Notice of meeting.

SUMMARY: Pursuant to the Federal Advisory Committee Act, notice is hereby given that the President's Committee on the Arts and the Humanities. On September 13, 2023, the Committee will meet to carry out administrative functions and to consider preliminary recommendations for agency action. On September 14, 2023, the Committee will meet to deliberate on recommendations for agency action.

DATES: The meeting will be held on September 13, 2023, 11:00 a.m. EST until 3 p.m. EST and on September 14, 2023 at 9:00 a.m. EST until adjourned.

ADDRESSES: On September 13, 2023, the meeting will convene at 1200 Pennsylvania Avenue NW, Washington, DC 20001. On September 14, 2023, the meeting will convene at 1100 Pennsylvania Avenue NW, Washington, DC 20004.

FOR FURTHER INFORMATION CONTACT: Jasmine Jennings, Assistant General Counsel and Alternate Designated Federal Officer, Institute of Museum and Library Services, Suite 4000, 955 L'Enfant Plaza North SW, Washington, DC 20024; (202) 653-4653; jjennings@imls.gov.

SUPPLEMENTARY INFORMATION: The President's Committee on the Arts and the Humanities is meeting pursuant Executive Order 14084 and the Federal Advisory Committee Act (FACA), as amended, 5 U.S.C. app. The meeting of the President's Committee on the Arts and Humanities will convene at 11 a.m. EST on September 13, 2013. This meeting with be an executive session (closed to the public and agency personnel). The meeting of the President's Committee on the Arts and the Humanities will convene at 9 a.m. EST on September 14, 2023. This meeting will be open to the public.

Agenda: On September 13, the Committee will meet to carry out administrative functions and to consider preliminary recommendations for agency action.

As identified above, the September 13, 2023 meeting of the President's Committee on the Arts and the Humanities will be closed to the public and personnel pursuant to subsections (c)(6) and (c)(9)(B) of section 552b of Title 5, United States Code, as amended. The closed session will consider information of a personal nature where disclosure would constitute a clearly unwarranted invasion of privacy and will consider information which if prematurely disclosed would be likely to significantly frustrate implementation of proposed agency action.

On September 14, 2023, the Committee will meet to deliberate on recommendations for agency action. Any interested persons may attend as observers, subject to limited seating availability. Individuals wishing to attend are advised to contact Alexandra Piper of the Institute of Museum and Library Services seven (7) working days in advance of the September 13 meeting at apiper@imls.gov or write to the Committee at the Institute of Museum and Library Services, 955 L'Enfant Plaza SW, Suite 4000, Washington, DC 20024.

If you need special accommodations due to disability or would like to obtain further information in reference to the meeting, please contact Alexandra Piper at apiper@imls.gov.

Dated: August 23, 2023.
Connie Cox Bodner,
Director, Office of Grants Policy and Management.

[FR Doc. 2023-18534 Filed 8-28-23; 8:45 am]

BILLING CODE 7036-01-P